DEPARTMENT OF THE INTERIOR

National Park Service

[2253-665]

Notice of Inventory Completion: Museum of Anthropology, University of Michigan, Ann Arbor, MI

AGENCY: National Park Service, Interior.

ACTION: Notice.

SUMMARY: The Museum of Anthropology, University of Michigan, has completed an inventory of human remains, in consultation with the appropriate Indian tribe, and has determined that there is a cultural affiliation between the human remains and a present-day Indian tribe. Representatives of any Indian tribe that believes itself to be culturally affiliated with the human remains may contact the Museum of Anthropology, University of Michigan. Repatriation of the human remains to the tribe stated below may occur if no additional claimants come forward.

DATES: Representatives of any Indian tribe that believes it has a cultural affiliation with the human remains should contact the Museum of Anthropology, University of Michigan, at the address below by July 21, 2011.

ADDRESSES: Dr. Carla Sinopoli, NAGPRA Coordinator, Museum of Anthropology, University of Michigan, Ann Arbor, MI 48109-1079, telephone (734) 764-0485.

SUPPLEMENTARY INFORMATION: Notice is here given in accordance with the Native American Graves Protection and Repatriation Act (NAGPRA), 25 U.S.C. 3003, of the completion of an inventory of human remains in the possession of the Museum of Anthropology, University of Michigan, Ann Arbor, MI. The human remains were removed from the Fort Rice area in North Dakota.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Museum of Anthropology, University of Michigan, professional staff in consultation with representatives of the Standing Rock Sioux Tribe of North & South Dakota.

History and Description of the Remains

At an unknown date, a human remain representing one individual was removed from most likely the Fort Rice area in North Dakota. The skull became part of a collection created by Corydon La Ford, MD (tenure 1854-1894), University of Michigan, Medical School, Department of Anatomy. The collection was created by Dr. La Ford during the late 19th century and it was later added to by unknown individuals until the early 20th century. The collection was used for anatomy teaching in the Medical School and no information exists as to how the crania were acquired. In 1996, the collection was transferred from the Medical School to the Museum of Anthropology. Written on this cranium is: “The skull of a Sioux Indian picked up on the plains near Fort Rice Dakota.” No known individual was identified. No associated funerary objects are present.

Determinations Made by the Museum of Anthropology, University of Michigan

Officials of the Museum of Anthropology, University of Michigan, have determined that:

• Based on provenience location written on the cranium and dental morphology, the individual is determined to be of Native American ancestry.

• Based on the provenience, the individual is most likely culturally affiliated with the Standing Rock Sioux Tribe of North & South Dakota.

• Pursuant to 25 U.S.C. 3001(9), the human remains described in this notice represents the physical remains of one individual of Native American ancestry.

• Pursuant to 25 U.S.C. 3001(2), there is a relationship of shared group identity that can be reasonably traced between the Native American human remains and the Standing Rock Sioux Tribe of North & South Dakota.

Additional Requestors and Disposition

Representatives of any other Indian tribe that believes itself to be culturally affiliated with the human remains should contact Dr. Carla Sinopoli, NAGPRA Coordinator, Museum of Anthropology, University of Michigan, Ann Arbor, MI 48109-1079, telephone (734) 764-0485, before July 21, 2011. Repatriation of the human remains to the Standing Rock Sioux Tribe of North & South Dakota may proceed after that date if no additional claimants come forward.

The Museum of Anthropology, University of Michigan, is responsible for notifying the Standing Rock Sioux Tribe of North & South Dakota that this notice has been published.

Dated: June 15, 2011.
Sherry Hutt,
Manager, National NAGPRA Program.

[FR Doc. 2011-15438 Filed 6-20-11; 8:45 am]

BILLING CODE 4312-50-P